DEPARTMENT OF COMMERCE

International Trade Administration

Exporters' Textile Advisory Committee; Notice of Open Meeting

A meeting of the Exporters' Textile Advisory Committee will be held on Tuesday, April 20th, 2010. The meeting will be from 1-4:30 p.m. Location: Training Room A, Trade Information Center, Ronald Reagan Building, 1300 Pennsylvania Avenue, NW., Washington, DC 20230.

The Committee provides advice and guidance to Department officials on the identification and surmounting of barriers to the expansion of textile exports, and on methods of encouraging textile firms to participate in export expansion.

The Committee functions solely as an advisory body in accordance with the provisions of the Federal Advisory Committee Act.

The meeting will be open to the public with a limited number of seats available. For further information contact Kim-Bang Nguyen at (202) 482-4805 or Larry Brill at (202) 482-1856. Minutes of all ETAC meetings are posted at http://OTEXA.ita.doc.gov.

Dated: March 8, 2010.
Kimberly Glas,
Deputy Assistant Secretary for Textiles and Apparel.

[FR Doc. 2010-5475 Filed 3-11-10; 8:45 am]

BILLING CODE 3510-DS-P